DEPARTMENT OF TRANSPORTATION

Federal Aviation Administration

14 CFR Part 73

[Docket No. FAA-2005-22600; Airspace Docket No. 05-AWP-11]

RIN 2120-AA66

Change of Controlling Agency for Restricted Areas; HI

AGENCY: Federal Aviation Administration (FAA), DOT.

ACTION: Final rule.

SUMMARY: This action changes the controlling agency of Restricted Areas R-3101 PMRFAC Four, R-3103 Humuula, R-3107 Kaula Rock, R-3109A, B & C Schofield-Makua, Oahu, and R-3110A, B & C Schofield-Makua, Oahu, HI. The FAA is taking this action to reflect an administrative change of controlling agencies for the restricted areas. There are no changes to the boundaries; designated altitudes; time of designation; or activities conducted within the affected restricted areas.

EFFECTIVE DATE: 0901 UTC, December 22, 2005.

FOR FURTHER INFORMATION CONTACT: Ken McElroy, Airspace and Rules, Office of System Operations Airspace and AIM, Federal Aviation Administration, 800 Independence Avenue, SW., Washington, DC 20591; telephone: (202) 267-8783.

SUPPLEMENTARY INFORMATION:

The Rule

This action amends Title 14 Code of Federal Regulations (14 CFR) part 73 by changing the name of the controlling agency for R-3101 PMRFAC Four, R-3103 Humuula, R-3107 Kaula Rock, R-3109A, B & C Schofield-Makua, Oahu, R-3110A, B & C Schofield-Makua, Oahu, HI, from “FAA, Honolulu CERAP or FAA, Honolulu ATCT” to “FAA, Honolulu Control Facility.” The FAA is taking this action to reflect an administrative change of controlling agencies for the restricted areas. There are no changes to the boundaries; designated altitudes; time of designation; or activities conducted within the affected restricted areas. Therefore, notice and public procedures under 5 U.S.C. 553(b) are unnecessary.

The FAA has determined that this regulation only involves an established body of technical regulations for which frequent and routine amendments are necessary to keep them operationally current. Therefore, this regulation: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action qualifies for categorical exclusion under the National Environmental Policy Act in accordance with FAA Order 1050.1E, “Environmental Impacts: Policies and Procedures.” This airspace action is not expected to cause any potentially significant environmental impacts, and no extraordinary circumstances exist that warrant preparation of an environmental assessment.

List of Subjects in 14 CFR Part 73

Airspace, Prohibited areas, Restricted areas.

Adoption of the Amendment

In consideration of the foregoing, the Federal Aviation Administration amends 14 CFR part 73, as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.23 [Amended]

2. Section 73.23 is amended as follows:

* * * * *

R-3101 PMRFAC Four, HI [Amended]

By removing the words “Controlling agency. FAA, Honolulu CERAP.” and inserting the words “Controlling agency. FAA, Honolulu Control Facility.”

* * * * *

R-3103 Humuula, HI [Amended]

By removing the words “Controlling agency. FAA, Honolulu CERAP.” and inserting the words “Controlling agency. FAA, Honolulu Control Facility.”

* * * * *

R-3107 Kaula Rock, HI [Amended]

By removing the words “Controlling agency. FAA, Honolulu CERAP.” and inserting the words “Controlling agency. FAA, Honolulu Control Facility.”

* * * * *

R-3109A Schofield-Makua, Oahu, HI [Amended]

By removing the words “Controlling agency. FAA, Honolulu ATCT.” and inserting the words “Controlling agency. FAA, Honolulu Control Facility.”

* * * * *

R-3109B Schofield-Makua, Oahu, HI [Amended]

By removing the words “Controlling agency. FAA, Honolulu ATCT.” and inserting the words “Controlling agency. FAA, Honolulu Control Facility.”

* * * * *

R-3109C Schofield-Makua, Oahu, HI [Amended]

By removing the words “Controlling agency. FAA, Honolulu ATCT.” and inserting the words “Controlling agency. FAA, Honolulu Control Facility.”

* * * * *

R-3110A Schofield-Makua, Oahu, HI [Amended]

By removing the words “Controlling agency. FAA, Honolulu ATCT.” and inserting the words “Controlling agency. FAA, Honolulu Control Facility.”

* * * * *

R-3110B Schofield-Makua, Oahu, HI [Amended]

By removing the words “Controlling agency. FAA, Honolulu ATCT.” and inserting the words “Controlling agency. FAA, Honolulu Control Facility.”

* * * * *

R-3110C Schofield-Makua, Oahu, HI [Amended]

By removing the words “Controlling agency. FAA, Honolulu ATCT.” and inserting the words “Controlling agency. FAA, Honolulu Control Facility.”

* * * * *

Issued in Washington, DC, on October 3, 2005.
Edith V Parish,
Acting Manager, Airspace and Rules.

[FR Doc. 05-20279 Filed 10-6-05; 8:45 am]

BILLING CODE 4910-13-P